DEPARTMENT OF JUSTICE

Antitrust Division

Notice Pursuant to the National Cooperative Research and Production Act of 1993—National Center for Manufacturing Sciences, Inc.

Notice is hereby given that, on December 18, 2001, pursuant to section 6(a) of the National Cooperative Research and Production Act of 1993, 15 U.S.C. 4301 et seq. (“the Act”), National Center for Manufacturing Sciences, Inc. has filed written notifications simultaneously with the Attorney General and the Federal Trade Commission disclosing changes in its membership status. The notifications were filed for the purpose of extending the Act's provisions limiting the recovery of antitrust plaintiffs to actual damages under specified circumstances.

Specifically, General Pattern Company, Blaine, MN has been added as a party to this venture.

Also, Electronic Data Systems, Troy, MI; Interconnection Technology Research Institute (ITRI), Austin, TX; Softzone Engineering, Inc., Plymouth, MI; Johnson Manufacturing Company, Inc., Princeton, IA; Tecumseh Products Company, Tecumseh, MI; and University of New Orleans, New Orleans, LA have been dropped as parties to this venture.

No other changes have been made in either the membership or planned activity of the group research project. Membership in this group research project remains open, and National Center for Manufacturing Sciences, Inc. intends to file additional written notification disclosing all changes in membership.

On February 20, 1987, National Center for Manufacturing Sciences, Inc. filed its original notification pursuant to section 6(a) of the Act. The Department of Justice published a notice in the Federal Register pursuant to section 6(b) of the Act on March 17, 1987 (52 FR 8375).

The last notification was filed with the Department on August 22, 2001. A notice was published in the Federal Register pursuant to section 6(b) of the Act on September 25, 2001 (66 FR 49044).

Constance K. Robinson,
Director of Operations, Antitrust Division.

[FR Doc. 02-1563 Filed 1-22-02; 8:45 am]

BILLING CODE 4410-11-M